NATIONAL FOUNDATION OF THE ARTS AND THE HUMANITIES

Institute of Museum and Library Services

44th Meeting of the National Museum and Library Services Board

AGENCY: Institute of Museum and Library Services (IMLS), National Foundation of the Arts and the Humanities (NFAH).

ACTION: Notice of meeting.

SUMMARY: Pursuant to the Federal Advisory Committee Act, notice is hereby given that the National Museum and Library Services Board will meet to advise the Director of the Institute of Museum and Library Services (IMLS) with respect to duties, powers, and authority of IMLS relating to museum, library, and information services, as well as coordination of activities for the improvement of these services.

Dates and Time: The meeting will be held on December 10, 2021, from 11:30 a.m. Eastern Time until adjourned.

Place: The meeting will convene virtually. In order to enhance openness and public participation, virtual meeting and audio conference technology will be used during the meeting. Instructions will be sent to all public registrants.

FOR FURTHER INFORMATION CONTACT: Katherine Maas, Chief of Staff and Alternate Designated Federal Officer, Institute of Museum and Library Services, Suite 4000, 955 L'Enfant Plaza North SW, Washington, DC 20024; (202) 653-4798; kmaas@imls.gov (mailto:kmaas@imls.gov).

SUPPLEMENTARY INFORMATION: The National Museum and Library Services Board is meeting pursuant to the National Museum and Library Service Act, 20 U.S.C. 9105a, and the Federal Advisory Committee Act (FACA), as amended, 5 U.S.C. app.

The 44th Meeting of the National Museum and Library Services Board, which is open to the public, will convene online at 11:30 a.m. Eastern Time on December 10, 2021.

The agenda for the 44th Meeting of the National Museum and Library Services Board will be as follows:

I. Call to Order

II. Approval of Minutes of the 43rd Meeting

III. Board Program: Information Literacy

IV. Director's Welcome and Update

V. Governmental Engagement and Legislative Update

VI. Financial Update

VII. Office of the Chief Information Officer Update

VIII. Office of Museum Services Update

IX. Office of Library Services Update

X. Office of Research and Evaluation Update

If you wish to attend the virtual public session of the meeting, please inform IMLS as soon as possible, but no later than close of business on December 8, 2021, by contacting Katherine Maas at kmaas@imls.gov (mailto:kmaas@imls.gov). Virtual meeting and audio instructions will be sent to all public registrants. Please provide notice of any special needs or accommodations by November 24, 2021.

Dated: November 5, 2021.
Brianna Ingram,
Paralegal Specialist.

[FR Doc. 2021-24576 Filed 11-9-21; 8:45 am]

BILLING CODE 7036-01-P